GENERAL SERVICES ADMINISTRATION

Privacy Act of 1974; System of Records

AGENCY: General Services Administration.

ACTION: Notice of a new system of records subject to the Privacy Act of 1974.

SUMMARY: The General Services Administration (GSA) is providing notice of the establishment of a new system of records, Child Care Subsidy (GSA/ChildCare-1). The new system will collect family income data from GSA employees for the purpose of determining their eligibility for child care subsidies, and the amounts of the subsidies. It also will collect information from the employees' child care provider(s) for verification purposes, e.g., that the provider is licensed. Collection of data will be by subsidy application forms submitted by employees.

DATES: Comments on the new system must be provided April 27, 2000. The system will become effective without further notice on April 27, 2000, unless comments dictate otherwise.

ADDRESSES: Address comments to: General Services Administration, Office of Child Care (D), 1800 F Street, NW, Washington, DC 20405; or to GSA Privacy Act Officer, General Services Administration, CAI, 1800 F Street, NW, Washington, DC 20405.

FOR FURTHER INFORMATION CONTACT: The Office of Child Care, at the above address, or telephone (202) 208-5119.

GSA/Childcare-1

System name:

GSA Child Care Subsidy.

System location:

This system of records is maintained by the Office of Child Care (D), 1800 F Street, NW, Washington, DC.

Categories of individuals covered by the system:

The individuals in the system are employees of the General Services Administration who voluntarily apply for child care subsidies.

Categories of records in the system:

Application forms for child care subsidy containing personal information, including employee (parent) name, Social Security Number, grade, home and work numbers addresses, telephone numbers, total income, number of dependent children, and number of children on whose behalf the parent is applying for a subsidy; information on child care providers used, including name, address, provider license number and State where issued, tuition cost, and provider tax identification number; and copies of IRS Form 1040 and 1040A for verification purposes.

Authority for maintenance of the system:

Pub. L. 106-58 and E.O. 9397.

Purpose(s):

To establish and verify GSA employees' eligibility for child care subsidies in order for GSA to provide monetary assistance to its employees.

Routine uses of records maintained in the system, including categories of users and the purposes of such uses:

Information from this system may be disclosed as a routine use:

a. To the Federal, State, or local agency responsible for investigating, prosecuting, enforcing, or implementing a statute, rule, regulation, or order, where the General Services Administration becomes aware of a violation or potential violation of civil or criminal law or regulation.

b. To a Member of Congress or to a congressional staff member in response to a request for assistance from the Member by the individual of record.

c. To another Federal agency or to a court when the Government is party to a judicial proceeding before the court.

d. To the Office of Personnel Management or the General Accounting Office when the information is required for evaluation of the subsidy program.

e. To an expert, consultant, or contractor (including employees of the contractor) of GSA if necessary to further the implementation and operation of this program.

Policies and practices for storing, retrieving, accessing, retaining, and disposing of records in the system:

Storage:

Information may be collected on paper or electronically and may be stored as paper forms or on computers.

Retrievability:

By name; may also be cross-referenced to Social Security Number.

Safeguards:

When not in use by an authorized person, paper records are stored in lockable metal file cabinets or secured rooms. Electronic records are protected by the use of passwords.

Retention and disposal:

Disposition of records is according to the National Archives and Records Administration (NARA) guidelines, as set forth in the handbook, GSA Records Maintenance and Disposition System (OAD P 1820.2) and authorized GSA records schedules.

System manager(s) and address:

Associate Administrator for Child Care (D), General Services Administration, 1800 F St., NW, Washington, DC 20405.

Notification procedure:

Individuals may submit a request on whether a system contains records about them to: Associate Administrator for Child Care (D), General Services Administration, 1800 F St., NW, Washington, DC 20405.

Record access procedures:

Requests from individuals for access to their records should be addressed to the system manager.

Contesting record procedures:

GSA rules for access to systems of records, contesting the contents of systems of records, and appealing initial determinations are published in the Federal Register, 41 CFR part 105-64.

Record source categories:

Information is provided by GSA employees who apply for child care subsidies. Furnishing of the information is voluntary.

Dated: March 21, 2000.
Daniel K. Cooper,
Director, Administrative Services Division.

[FR Doc. 00-7509 Filed 3-27-00; 8:45 am]

BILLING CODE 6820-34-M